DEPARTMENT OF HEALTH AND HUMAN SERVICES

Agency for Toxic Substances and Disease Registry

[Docket No. ATSDR-2015-0004]

Availability of Draft Toxicological Profile; Perfluoroalkyls

AGENCY: Agency for Toxic Substances and Disease Registry (ATSDR), Department of Health and Human Services (HHS).

ACTION: Notice of availability, and request for comment.

SUMMARY: The Agency for Toxic Substances and Disease Registry (ATSDR) located in the Department of Health and Human Services (HHS) announces the availability of the Toxicological Profile for Perfluoroalkyls for review and comment. Comments can include additional information or reports on studies about the health effects of perfluoroalkyls. Although ATSDR considered key studies for this substance during the profile development process, this Federal Register notice solicits any relevant, additional studies, particularly unpublished data. ATSDR will evaluate the quality and relevance of such data or studies for possible inclusion into the profile. ATSDR remains committed to providing a public comment period for this document as a means to best serve public health and our clients.

DATES: To be considered, comments on the draft Toxicological Profile for Perfluoroalkyls must be received not later than December 1, 2015. Comments received after close of the public comment period will be considered solely at the discretion of ATSDR, based upon what is deemed to be in the best interest of the general public.

ADDRESSES: You may submit comments, identified by the docket number ATSDR-2015-0004, by any of the following methods:

• Federal eRulemaking Portal: http://www.regulations.gov/#!home. Follow the instructions for submitting comments.

• Mail: Division of Toxicology and Human Health Sciences, 1600 Clifton Rd. NE., F57, Atlanta, GA 30329-4027.

FOR FURTHER INFORMATION CONTACT: Ms. Delores Grant, Division of Toxicology and Human Health Sciences, Agency for Toxic Substances and Disease Registry, 1600 Clifton Road NE., MS F-57, Atlanta, GA 30329; telephone number (800) 232-4636 or (770) 488-3351.

SUPPLEMENTARY INFORMATION: The Superfund Amendments and Reauthorization Act of 1986 (SARA) (42 U.S.C. 9601 et seq.) amended the Comprehensive Environmental Response, Compensation, and Liability Act of 1980 (CERCLA or Superfund) (42 U.S.C. 9601 et seq.) by establishing certain requirements for ATSDR and the U.S. Environmental Protection Agency (U.S. EPA) regarding hazardous substances that are most commonly found at facilities on the CERCLA National Priorities List (NPL). Among these statutory requirements is a mandate for the Administrator of ATSDR to prepare toxicological profiles for each substance included on the priority list of hazardous substances (also called the Substance Priority List). This list identifies 275 hazardous substances that ATSDR (in cooperation with EPA) has determined pose the most significant potential threat to human health. The availability of the revised list of the 275 priority substances was announced in the Federal Register on May 28, 2014 (79 FR 30613) and is available at www.atsdr.cdc.gov/spl.

In addition, ATSDR has the authority to prepare toxicological profiles for substances not found at sites on the National Priorities List, in an effort to “establish and maintain inventory of literature, research, and studies on the health effects of toxic substances” under CERCLA Section 104(i)(1)(B), to respond to requests for consultation under section 104(i)(4), and as otherwise necessary to support the site-specific response actions conducted by ATSDR.

On November 6, 2008, ATSDR announced the availability of a draft toxicological profile for Set 22 Toxicological Profiles for public comment (73 FR 66047). The Set 22 Toxicological Profiles included Perfluoroalkyls and ATSDR announced that the Perfluoroalkyls profile was on a modified schedule pending additional review.

On July 23, 2009 ATSDR published a second notice of the availability of the toxicological profile for Perfluoroalkyls in draft form for public review and comment (74 FR 36492). The 90-day comment period ended October 30, 2009. Following the close of the comment period, chemical-specific comments were addressed, and, where appropriate, changes were incorporated into the profile. Given the plethora of new data that have been published since 2009, and the resulting extensive revision to the profile, the agency has determined that it would be in the best interest of public health to release the perfluoroalkyls profile for another public comment period. The public comments and other data submitted in response to the Federal Register notices are available for inspection from Monday through Friday, except for legal holidays, from 9 a.m. until 5 p.m., Eastern Time, at 4770 Buford Hwy NE., Atlanta, Georgia 30341. Please call ahead to 1-800-232-4636 and ask for a representative in the Division of Toxicology and Human Health Sciences to schedule your visit.

Availability

The Toxicological Profile for Perfluoroalkyls prepared by ATSDR will be made available to the public on or about August 31, 2015 at the ATSDR Web site: www.atsdr.cdc.gov/toxprofiles/index.asp and at the Federal eRulemaking Portal: http://www.regulations.gov/#!home.

Sascha Chaney,
Director, Office of Policy, Planning and Evaluation, National Center for Environmental Health and Agency for Toxic Substances and Disease Registry.

[FR Doc. 2015-21544 Filed 9-1-15; 8:45 am]

BILLING CODE 4163-70-P